ENVIRONMENTAL PROTECTION AGENCY

[Docket Number: CERCLA-08-2014-0007; FRL-9915-31-Region-8]

Notice of Ability To Pay Settlement Agreement for the Murray Laundry Superfund Site (Site) Under the Comprehensive Environmental Response, Compensation and Liability Act

AGENCY: Environmental Protection Agency.

ACTION: Notice; request for comment.

SUMMARY: As required by the Comprehensive Environmental Response, Compensation, and Liability Act of 1980, as amended (CERCLA), notice is hereby given that a Section 122 (h)(l) settlement for an ability to pay party is proposed by the United States, on behalf of the Environmental Protection Agency (EPA), and Murray Towers, L.C. (Murray Towers), a Utah limited liability company, for the payment of certain response costs incurred at the Murray Laundry Site in unincorporated Salt Lake County, Utah (Site).

The Site encompasses approximately 3.5 acres in unincorporated Salt Lake County, Utah. Murray Towers owns property within the Site, located at 4220 South State Street in unincorporated Salt Lake County, Utah (Property). From 1913-1977, a laundry facility operated at the Site. All the buildings associated with the historic Murray Laundry facility were demolished in 1982. Thereafter, the Site was used as a dumping ground for waste dirt, asphalt, and concrete. In 1999, underground storage tanks and perchloroethene (PCE) contaminated water were discovered. The tanks were removed, however contaminated soils remained on-Site. The EPA conducted a time-critical removal action in 2013 to address the release or threatened release of hazardous substances. The action consisted of removing contaminated soils and replacing the excavated materials with clean backfill. The Site is currently in a mixed use area, with businesses and residences.

Under the proposed settlement, Murray Towers must use best efforts to transfer the Property, and relinquish 90% of the net sales proceeds, less certain agreed upon fees, to the EPA. Should the Property not be sold within three years, the Property must be auctioned and sold to the highest bidder, with the EPA still receiving 90% of the net sales proceeds. In exchange for the proceeds, the EPA will release the CERCLA lien on the Property. The proposed settlement also contains a covenant not to sue under Sections 106 and 107(a) of CERCLA, 42 U.S.C. 9606 and 9607(a).

DATES: Comments must be received on or before September 19, 2014.

ADDRESSES: Please send all comments to Sharon Abendschan, Enforcement Specialist (Mail Code 8ENF-RC), Environmental Protection Agency—Region 8, 1595 Wynkoop Street, Denver, CO 80202-1129; (303) 312-6957. Email: Abendschan.sharon@epa.gov.

FOR FURTHER INFORMATION CONTACT: For requests for copies of the Settlement Agreement please contact Sharon Abendschan, Enforcement Specialist (Mail Code 8ENF-RC), Environmental Protection Agency—Region 8, 1595 Wynkoop Street, Denver, CO 80202-1129; (303) 312-6957. Email: Abendschan.sharon@epa.gov.

Dated: August 1, 2014.
Eddie A. Sierra,
Acting Assistant Regional Administrator, Office of Enforcement, Compliance and Environmental Justice, EPA, Region 8.

[FR Doc. 2014-19773 Filed 8-19-14; 8:45 am]

BILLING CODE 6560-50-P